CONGRESSIONAL BUDGET OFFICE

Notice of Transmittal of Final Sequestration Report for Fiscal Year 2002 to the Congress and the Office of Management and Budget

Pursuant to section 254(b) of the Balanced Budge and Emergency Deficit Control Act of 1985 (2 U.S.C. 904(b)), the Congressional Budget Office hereby reports that it has submitted its Final Sequestration Report for Fiscal Year 2002 to the House of Representatives, the Senate, and the Office of Management and Budget.

William J. Gainer,
Associate Director, Management, Congressional Budget Office.

[FR Doc. 02-1442 Filed 1-22-02; 8:45 am]

BILLING CODE 01-0703-M